NUCLEAR REGULATORY COMMISSION

[Docket No. 70-3073]

Notice of Consideration of Amendment Request for Cushing Refinery Site, Cushing, Oklahoma and Opportunity for a Hearing

The U.S. Nuclear Regulatory Commission (NRC) is considering issuance of a license amendment to Materials License SNM-1999. The Kerr-McGee Corporation's (Kerr-McGee or the licensee) has requested to have a portion of the property released, for unrestricted use, from the Cushing Refinery Site (Cushing) License. This action is taken in response to Kerr-McGee's license amendment request, dated November 10, 2000, and supplemented by letter dated January 19, 2001. The licensee requested that the portion of site blocks 116, 117, 124, and 125 south of Skull Creek be released for unrestricted use and removed from the license. The area that is being considered for release from the license encompasses a sediment pond located in Unaffected Area 2 (UA-2). This sediment pond is normally used as a collection area for sediments generated during treatment of water removed from Pit 5. A routine discharge of treated wastewater to Skull Creek in June 1998, resulted in the inadvertent release of some of the pond sediment not releasable under the licensee's discharge permit. Although Skull Creek was radiologically decontaminated in 1991, it is located within a radiologically affected area. Therefore, sediments removed from Skull Creek and placed into UA-2 Sediment Pond had a potential of containing licensed material. The proposed boundary of the licensed area is shown in Figure 1, “Cushing, Oklahoma Refinery Site, Proposed Licensed Site”, of the January 19, 2001, letter.

If the NRC approves the license amendment, the approval will be documented in a license amendment to NRC's license SNM-1999. However, before approving the proposed license amendment, NRC will need to make the findings required by the Atomic Energy Act of 1954, as amended, and NRC's regulations.

NRC hereby provides notice that this is a proceeding on an application for an amendment of a license falling within the scope of Subpart L, “Informal Hearing Procedures for Adjudication in Materials Licensing Proceedings”, of NRC's rules of practice for domestic licensing proceedings in 10 CFR Part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to: Secretary, U.S. Nuclear Regulatory Commission, One White Flint North, 11555 Rockville Pike, Rockville, MD 20852-2738, between 7:45 a.m. and 4:15 p.m. Federal workdays; or

2. By mail, telegram, or facsimile addressed to: Secretary, U.S. Nuclear Regulatory Commission, Washington, DC 20555-0001. Attention: Rulemakings and Adjudications Staff.

In accordance with 10 CFR § 2.1205(f), each request for a hearing must also be served, by delivering it personally or by mail, to:

1. The applicant, Kerr-McGee Corporation, Kerr-McGee Center, P.O. Box 25851, Oklahoma City, Oklahoma, 73125, Attention: Mr. Jeff Lux, and;

2. The NRC staff, by delivery to the Executive Director for Operations, U.S. Nuclear Regulatory Commission, One White Flint North, 11555 Rockville Pike, Rockville, MD 20852-2738, between 7:45 a.m. and 4:15 p.m. Federal workdays, or by mail, addressed to the Executive Director for Operations, U.S. Nuclear Regulatory Commission, Washington, DC 20555-0001.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and

4. The circumstance establishing that the request for a hearing is timely in accordance with § 2.1205(d).

For Further Information:

The application for the license amendment and supporting documentation are available for inspection on NRC's Public Electronic Reading Room at http://www.nrc.gov/NRC/ADAMS/index.html. Questions with respect to this action should be referred to Mr. Stewart Brown, Decommissioning Branch, Division of Waste Management, Office of Nuclear Material Safety and Safeguards, U.S. Nuclear Regulatory Commission, Washington, DC 20555-0001. Telephone: (301) 415-6605; Fax: (301) 415-5397; Internet: SWB1@NRC.GOV.

Dated at Rockville, Maryland, this 2nd day of May 2001.
For the Nuclear Regulatory Commission.
Stewart W. Brown,
Project Manager, Decommissioning Branch, Division of Waste Management, Office of Nuclear Material Safety and Safeguards.

[FR Doc. 01-11903 Filed 5-10-01; 8:45 am]

BILLING CODE 7590-01-U